DEPARTMENT OF AGRICULTURE

Agricultural Marketing Service

7 CFR Part 59

[Docket Number LS-99-18]

RIN No. 0581-AB64

Livestock and Grain Market News Branch: Livestock Mandatory Reporting

AGENCY: Agricultural Marketing Service, USDA.

ACTION: Final rule; postponement of effective date.

SUMMARY: This document postpones the effective date of the final rule (65 FR 75464) which establishes a mandatory program of reporting information regarding the marketing of cattle, swine, lambs, and products of such livestock under the “Livestock Mandatory Reporting Act of 1999.” The postponement of the effective date is being taken so that adequate time is available for AMS and those entities required to report to test the electronic information collection system being implemented by the program. This action will both ensure that the confidentiality of those required to report information is maintained while market participants are provided with accurate information on pricing, contracting for purchase, and supply and demand conditions for livestock, livestock production, and livestock products, that can be readily understood by producers, packers, and other market participants.

EFFECTIVE DATE: The effective date of the final rule amending 7 CFR part 59 published at 65 FR 75464, December 1, 2000, is postponed from January 30, 2001, to April 2, 2001.

FOR FURTHER INFORMATION CONTACT: If you have questions about the regulations, please call John E. Van Dyke, Chief, Livestock and Grain Market News Branch at (202) 720-6231, fax (202) 690-3732, or E-mail us at john.vandyke@usda.gov.

Additional information may also be obtained from the AMS web site: http://www.ams.usda.gov/lsg/price.htm as it becomes available.

SUPPLEMENTARY INFORMATION:

Background

The Livestock Mandatory Reporting Act of 1999 (Act) was enacted into law on October 22, 1999 (Pub. L. 106-78; 113 Stat. 1188; 7 U.S.C. 1635-1636(h)) as an amendment to the Agricultural Marketing Act of 1946 (7 U.S.C. 1621 et seq.). The Act provides for the mandatory reporting of market information by federally inspected livestock processing plants which have slaughtered an average number of livestock during the immediately preceding 5 calendar years (125,000 for cattle and 100,000 for swine), including any processing plant that did not slaughter during the immediately preceding 5 calendar years if the Secretary determines that the plant should be considered a packer based on the plant's capacity. For entities that did not slaughter during the immediately preceding 5 calendar years, such as a new plant or existing plant that begins operations, the AMS will project the plant's annual slaughter or production based upon the plant's estimate of annual slaughter capacity to determine which entities meet the definition of a packer as defined in these regulations.

The Act gives the Secretary the latitude to provide for the reporting of lamb information. AMS is requiring the reporting of market information by federally inspected lamb processing plants who have slaughtered an average of 75,000 head of lambs or processed an average of 75,000 lamb carcasses during the immediately preceding 5 calendar years. Additionally, a lamb processing plant that did not slaughter an average of 75,000 lambs or process an average of 75,000 lamb carcasses during the immediately preceding 5 calendar years will be required to report information if the Secretary determines the processing plant should be considered a packer based on its capacity. An importer of lamb that, for any calendar year, imported an average of 5,000 metric tons of lamb meat products per year during the immediately preceding 5 calendar years report such lamb information as specified in these regulations. Additionally, an importer that did not import an average of 5,000 metric tons of lamb meat products during the immediately preceding 5 calendar years will be required to report information if the Secretary determines that the person should be considered an importer based on their volume of lamb imports.

These packers are required to report the details of all transactions involving purchases of livestock (cattle, swine, and lambs), and the details of all transactions involving domestic and export sales of boxed beef cuts, including applicable branded product, sales boxed lamb cuts, including applicable branded product, and sales of lamb carcasses. These importers are required to report the details of all transactions involving the sales of imported boxed lamb cuts. This information will be reported to AMS according to the schedule established by the Act and these regulations with purchases of swine reported three times each day, purchases of cattle and lambs reported twice each day, domestic and export sales of boxed beef cuts including applicable branded boxed beef cuts reported twice each day, sales of lamb carcasses and boxed lamb cuts, including applicable branded boxed lamb cuts, to be reported once daily, and sales of imported lamb cuts once weekly.

AMS developed the electronic information collection system that will receive information from those entities required to report and will convert the information into reports that AMS will publish for market participants to utilize. These published reports will provide market participants with accurate information on pricing, contracting for purchase, and supply and demand conditions for livestock, livestock production, and livestock products, that can be readily understood by producers, packers, and other market participants. The electronic information collection system collects and manages the data received from those entities required to report and was designed in a manner that ensures security of data transmission and storage, and confidentiality of information that is maintained by USDA.

Since publication of the final rule on December 1, 2000, AMS, with the assistance of technical experts, has initiated testing of the system with those entities required to report. AMS has determined that additional time is required to adequately test the system and ensure that all program requirements and objectives are met. Accordingly, AMS has postponed the effective date of the regulations and the date which those entities required to report would be required to begin transmitting data until April 2, 2001.

Authority: 7 U.S.C. 1621 et seq.

Dated: January 26, 2001.
Kenneth C. Clayton,
Acting Administrator, Agricultural Marketing Service.

[FR Doc. 01-2639 Filed 1-26-01; 3:10 pm]

BILLING CODE 3410-02-P